DEPARTMENT OF EDUCATION

[Docket No. ED-2014-ICCD-0158]

Agency Information Collection Activities; Comment Request; Student Assistance General Provisions—Subpart A—General

AGENCY: Department of Education (ED), Federal Student Aid (FSA).

ACTION: Notice.

SUMMARY: In accordance with the Paperwork Reduction Act of 1995 (44 U.S.C. chapter 3501 et seq.), ED is proposing an extension of an existing information collection.

DATES: Interested persons are invited to submit comments on or before February 9, 2015.

ADDRESSES: Comments submitted in response to this notice should be submitted electronically through the Federal eRulemaking Portal at http://www.regulations.gov by selecting Docket ID number ED-2014-ICCD-0158 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Subpart A—General.

OMB Control Number: 1845-0107.

Type of Review: An extension of an existing information collection.

Respondents/Affected Public: Individuals or Households, Private Sector, State, Local and Tribal Governments.

Total Estimated Number of Annual Responses: 2,645,033.

Total Estimated Number of Annual Burden Hours: 448,252.

Abstract: The final regulations require an institution to report for each student who, during an award year, began attending or completed a program that leads to gainful employment in a recognized occupation the following information; information to identify the student and the location of the institution the student attended, the Classification of Instructional Program (CIP) code for each occupational training program that each student either began or completed, the completion date, the amount of private education loans and institutional financing incurred by each graduate, and whether a student matriculated into a higher credentialed program of study at the same or another institution. In addition, the final regulations will require the following disclosures to prospective students: the name and Standard Occupational Classification (SOC) code for of each occupational training program and links to the Department of Labor's O-*Net site to obtain occupation profile data using a SOC code, or a representative sample of SOC codes for graduates of its program; information about on-time graduation rates for students completing the program; the total amount of tuition and fees charged for completing the program within the normal time it takes to complete the course requirements as published in the institution's catalog, along with the typical costs for books and supplies, and the cost of room and board, if applicable, including providing a Web link or access to the program cost information the institution makes available to all enrolled and prospective students under section 668.43(a). Beginning July 1, 2011, the placement rate information as determined under the institution's accrediting agency or State requirements, or the placement rate that will be determined in the future by the National Center for Education Statistics (NCES) and reported to the institution. In addition, the institution must disclose the median loan debt incurred by students who completed the program as provided by the Secretary, as well as any other information about the program provided by the Secretary. The institution must identify separately the median title IV, Higher Education Act (HEA) loan debt and the median loan debt from the private education loan debt and institutional financing plans. For each program, the institution must include the accreditation and licensing information provided to all currently enrolled as well as prospective students as posted on the institution's Web site.

Dated: December 5, 2014.
Kate Mullan,
Acting Director, Information Collection Clearance Division, Privacy, Information and Records Management Services, Office of Management.

[FR Doc. 2014-28942 Filed 12-9-14; 8:45 am]

BILLING CODE 4000-01-P